DEPARTMENT OF ENERGY

Federal Energy Regulatory Commission

[Project No. 2281-011-CA; Project No. 4851-005-CA]

Pacific Gas and Electric Company; Notice of Availability of Environmental Assessment

January 14, 2009.

In accordance with the National Environmental Policy Act of 1969 and the Federal Energy Regulatory Commission's (Commission) regulations, 18 CFR Part 380 (Order No. 486, 52 FR 47897), the Office of Energy Projects has reviewed the applications for new licenses for the Woodleaf-Kanaka Junction and Sly Creek transmission line projects, located near the South Fork Feather River, in Butte County, California, and has prepared an environmental assessment (EA) for the projects. The projects occupy approximately 105 acres, which includes approximately 34 acres that are administered by the Forest Supervisor of the Plumas National Forest.

The EA contains staff's analysis of the potential environmental impacts of the projects and alternatives and concludes that licensing the projects, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Lesley Kordella at (202) 502-6406.

Kimberly D. Bose,
Secretary.

[FR Doc. E9-1356 Filed 1-22-09; 8:45 am]

BILLING CODE 6717-01-P